SMALL BUSINESS ADMINISTRATION

Data Collection Available for Public Comments

ACTION: 60-Day notice and request for comments.

SUMMARY: The Small Business Administration (SBA) intends to request approval from the Office of Management and Budget (OMB) for the collection of information described below. The Paperwork Reduction Act (PRA) requires Federal agencies to publish a notice in the Federal Register concerning each proposed collection of information before submission to OMB, and to allow 60 days for public comment in response to the notice. This notice complies with that requirement.

DATES: Submit comments on or before May 4, 2026.

ADDRESSES: Send all comments via email to, Robert Camacho, Small Business Administration, Office of Financial Assistance, at robert.camacho@sba.gov.

FOR FURTHER INFORMATION CONTACT: Robert Camacho, Small Business Administration, Office of Financial Assistance by email at robert.camacho@sba.gov, or Shauniece Carter, Interim Agency Clearance Officer, by email at shauniece.carter@sba.gov.

SUPPLEMENTARY INFORMATION: The Disaster Loan Program is an SBA financing program authorized under the Small Business Act of 1953, 15 U.S.C. 636 et seq. SBA provides low-interest disaster loans to help businesses and homeowners recover from declared disasters. The information collection that is approved under OMB Control Number 3245-0432 facilitates the ongoing administration of the Disaster Loan Program.

This information collection currently consists of SBA Form 3520, titled Builder's Certification. The form is for disaster survivors experiencing substantive delays with obtaining state and local permitting requirements and other approvals. The disaster survivor may proceed with real property repairs, rehabilitations, replacements, or any associated activities after submitting this form.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0432.

(1) Title: Builder's Certification.

Description of Respondents: Disaster loan borrowers and any contractors, subcontractors, or agents of such borrower.

Form Number: SBA Form 3520.

Total Estimated Annual Responses: 6,000.

Total Estimated Annual Hour Burden: 3,000.

Shauniece Carter,
Interim Agency Clearance Officer.

[FR Doc. 2026-04265 Filed 3-3-26; 8:45 am]

BILLING CODE 8026-03-P